DEPARTMENT OF ENERGY

Proposed Subsequent Arrangement

AGENCY: Office of Nonproliferation and Arms Control, Department of Energy.

ACTION: Proposed subsequent arrangement.

SUMMARY: This document is being issued under the authority of the Atomic Energy Act of 1954, as amended. The Department is providing notice of a proposed subsequent arrangement under Article 6 paragraph 2 of the Agreement for Cooperation Between the Government of the United States of America and the Government of the Argentine Republic Concerning Peaceful Uses of Nuclear Energy.

DATES: This subsequent arrangement will take effect no sooner than December 1, 2016.

FOR FURTHER INFORMATION CONTACT: Mr. Richard Goorevich, Office of Nonproliferation and Arms Control, National Nuclear Security Administration, Department of Energy. Telephone: 202-586-0589 or email: Richard.Goorevich@nnsa.doe.gov.

SUPPLEMENTARY INFORMATION: This subsequent arrangement concerns the alteration in form or content of 17,729 g of U.S.-origin low enriched uranium (LEU), 3,502g of which is in the isotope of U-235 (19.75 percent enrichment), in cartridges containing filters, located at Ezeiza Radioactive Management Area (AGE), and 19,849g of U.S.-origin LEU, 3,925g of which is in the isotope ofU-235 (19.77 percent enrichment), contained in filters, located at the Fission Plant. Comision Nacional de Energia Atomica (CNEA) plans to recover and purify the slightly irradiated U.S.-origin LEU inventories held in filters of the Mo-99 production plant into a product to be used in the manufacturing of fuel elements and irradiation targets. The remaining radioisotope inventory will be set up for waste disposal. The recovery and purification will take place in the Radiochemical Laboratory Facility and the waste will be disposed in the AGE area. Both facilities are located in the Ezeiza Atomic Center. The material was obtained originally by CNEA from Y-12 pursuant to export licenses XSNM03348, XSNM3445, XSM3590, and XSNM3709. This will be an ongoing activity for the fission radioisotope production program at CNEA.

In accordance with section 131a. of the Atomic Energy Act of 1954, as amended, it has been determined that this subsequent arrangement concerning the alteration in form or content of nuclear material of United States origin will not be inimical to the common defense and security of the United States of America.

Dated: November 1, 2016.
For the Department of Energy.
Anne M. Harrington,
Deputy Administrator, Defense Nuclear Nonproliferation.

[FR Doc. 2016-27511 Filed 11-15-16; 8:45 am]

BILLING CODE 6450-01-P